ENVIRONMENTAL PROTECTION AGENCY

40 CFR Part 63

[EPA-R01-OAR-2006-0119; A-1-FRL-8049-8]

Approval of the Clean Air Act, Section 112(l), Authority for Hazardous Air Pollutants; Perchloroethylene Dry Cleaner Regulation, State of Maine Department of Environmental Protection

AGENCY: Environmental Protection Agency (EPA).

ACTION: Proposed rule.

SUMMARY: EPA proposes to approve the Maine Department of Environmental Protection's (ME DEP) request for approval to implement and enforce “Chapter 125: Perchloroethylene Dry Cleaner Regulation” in place of the National Emissions Standard for Hazardous Air Pollutants for Perchloroethylene Dry Cleaning Facilities (“Dry Cleaning NESHAP”) as it applies to area sources. Approval of this request for partial rule substitution would make Chapter 125 federally enforceable and consolidate the compliance requirements for area source dry cleaners in Maine into one set of regulations. Major source dry cleaning facilities would remain subject to the Dry Cleaning NESHAP.

DATES: Written comments must be received on or before May 24, 2006.

ADDRESSES: Submit your comments, identified by Docket ID No. EPA-R01-OAR-2006-0119 by one of the following methods:

1. http://www.regulations.gov: Follow the on-line instructions for submitting comments.

2. E-mail: brown.dan@epa.gov.

3. Fax: (617) 918-0048.

4. Mail: “EPA-R01-OAR-2006-0119”, Dan Brown, U.S. Environmental Protection Agency, EPA New England Regional Office, One Congress Street, Suite 1100 (mail code CAP), Boston, MA 02114-2023.

5. Hand Delivery or Courier. Deliver your comments to: Dan Brown, Manager, Air Permits, Toxics and Indoor Programs Unit, Office of Ecosystem Protection, U.S. Environmental Protection Agency, EPA New England Regional Office, One Congress Street, 11th floor, (CAP), Boston, MA 02114-2023. Such deliveries are only accepted during the Regional Office's normal hours of operation. The Regional Office's official hours of business are Monday through Friday, 8:30 to 4:30, excluding legal holidays.

Please see the direct final rule which is located in the Rules Section of this Federal Register for detailed instructions on how to submit comments.

FOR FURTHER INFORMATION CONTACT: Susan Lancey, Air Permits, Toxics, and Indoor Programs Unit, U.S. Environmental Protection Agency, EPA New England Regional Office, One Congress St, Suite 1100, Boston, MA 02114, telephone number (617) 918-1656, fax (617) 918-0656, e-mail lancey.susan@epa.gov.

SUPPLEMENTARY INFORMATION: In the final rules section of this Federal Register, EPA is approving ME DEP's request as a direct final rule without prior proposal because the Agency views this as a noncontroversial action and anticipates no relevant adverse comments. Chapter 125 has been in effect in Maine since 1991 and is, taken as a whole, more stringent than the Dry Cleaning NESHAP. A detailed rationale for the approval is set forth in the direct final rule. If no relevant adverse comments are received in response to this action, EPA will take no further action on this proposed rule. If the EPA receives relevant adverse comments, EPA will withdraw the direct final rule and it will not take effect. EPA will then address all public comments received in a subsequent final rule based on this proposed rule. The EPA will not institute a second comment period in this action.

For additional information see the direct final action which is published in the Rules Section of this Federal Register.

Dated: March 16, 2006.
Robert W. Varney,
Regional Administrator, EPA—New England.

[FR Doc. 06-3854 Filed 4-21-06; 8:45 am]

BILLING CODE 6560-50-P